DEPARTMENT OF JUSTICE

Antitrust Division

Notice Pursuant to the National Cooperative Research and Production Act of 1993-Tile Council of America

Correction

In notice document 04-25076 beginning on page 65228 in the issue of Wednesday, November 10, 2004, make the following corrections:

1. On page 65228, in the third column, the subject heading is corrected to read as set forth above.

2. On page 65229, in the first column, in the second line, “Title” should read “Tile”.

3. On the same page, in the same column, in the first full paragraph, in the fourth line, “Title” should read “Tile”.

4. On the same page, in the same column, in the same paragraph, in the ninth line, “title” should read “tile”.

[FR Doc. C4-25076 Filed 12-2-04; 8:45 am]

BILLING CODE 1505-01-D